DEPARTMENT OF COMMERCE

National Oceanic and Atmospheric Administration

50 CFR Part 648

[Docket No. 080521698-9067-02]

RIN 0648-XU84

Fisheries of the Northeastern United States; Northeast Multispecies Fishery; Removal of Gear Restriction for the U.S./Canada Management Area

AGENCY: National Marine Fisheries Service (NMFS), National Oceanic and Atmospheric Administration (NOAA), Commerce.

ACTION: Temporary rule; removal of gear restrictions.

SUMMARY: This action removes temporary gear restrictions in both the Eastern and Western U.S./Canada Areas for limited access Northeast (NE) multispecies vessels fishing on a NE multispecies Category A day-at-sea (DAS) for the remainder of the 2009 fishing year (FY) (i.e., through April 30, 2010). This action is authorized by the regulations implementing Amendment 13 to the NE Multispecies Fishery Management Plan (FMP) to optimize the harvest of transboundary stocks of Georges Bank (GB) yellowtail flounder, haddock, and cod under the authority of the Magnuson-Stevens Fishery Conservation and Management Act (Magnuson-Stevens Act).

DATES: Removal of the temporary gear restriction in the Western U.S./Canada Area is effective March 11, 2010, through April 30, 2010.

Removal of the temporary gear restriction in the Eastern U.S./Canada Area is effective April 13, 2010, through April 30, 2010.

FOR FURTHER INFORMATION CONTACT: Douglas Potts, Fishery Policy Analyst, (978) 281-6341, fax (978) 281-9135.

SUPPLEMENTARY INFORMATION: Regulations governing fishing activity in the U.S./Canada Management Area are found at § 648.85. These regulations authorize vessels issued a valid limited access NE multispecies permit and fishing under a NE multispecies DAS to fish in the Eastern U.S./Canada Area under specific conditions. The Eastern U.S./Canada Area GB cod TAC for FY 2009 was specified at 527 mt, and the TAC for the entire U.S./Canada Management Area for GB yellowtail flounder was specified at 1,617 mt, by the 2009 interim final rule (72 FR 25709). The regulations at § 648.85(a)(3)(iv) authorize the Administrator, Northeast Region, NMFS (Regional Administrator) to modify gear requirements, modify or close access to the area, modify trip limits, or modify the total number of trips into the U.S./Canada Management Area, to prevent over-harvesting or to facilitate achieving the U.S./Canada Management Area TACs.

Pursuant to § 648.85(a)(3)(iv)(E), once the available TAC for GB yellowtail flounder is projected to be caught, the Regional Administrator is required to close the Eastern U.S./Canada Area to all NE multispecies DAS vessels and prohibit retention of yellowtail flounder in the Western U.S./Canada Area for the remainder of the fishing year.

Based upon Vessel Monitoring System (VMS) reports and other available information, the catch of GB yellowtail flounder was at 81 percent of the FY 2009 TAC as of March 5, 2010, and was projected to not be fully harvested by April 30, 2010, potentially resulting in the under-harvest of the available TAC for GB yellowtail flounder during FY 2009. Based on this information, the Regional Administrator is removing the current temporary prohibition on the use of trawl gear, other than the haddock separator trawl and the Ruhle trawl, as specified at § 648.85(a)(3)(ix) and § 648.85 (b)(10)(iv)(J)(3), respectively, by any limited access NE multispecies vessel fishing in the Western U.S./Canada Area south of 41° 40′ N. lat. Therefore, effective March 11, 2010, through April 30, 2010, unless modified by a subsequent action, a NE multispecies vessel fishing under a Category A DAS may fish with any legal trawl gear throughout the Western U.S./Canada Area.

In addition, as of March 5, 2010, the catch of Eastern GB cod was 72 percent of the FY 2009 TAC and was projected to not be fully harvested by April 30, 2010. Projected catch rates indicate that lifting the current prohibition on the use of flounder trawl gear in the Eastern U.S./Canada Area on April 13, 2010, will allow vessels to harvest the Eastern GB cod TAC without exceeding it. Based on this information, the Regional Administrator is removing the temporary prohibition on the use of flounder trawl gear in the Eastern U.S./Canada Area effective April 13, 2010. Therefore, effective April 13, 2010, through April 30, 2010, unless modified by a subsequent action, a NE multispecies vessel fishing with trawl gear under a Category A DAS in the Eastern U.S./Canada Area may fish with any one of the gears specified for this area at § 648.85(a)(3)(ix), i.e., a flounder trawl, haddock separator trawl, or a Ruhle trawl.

Classification

This action is authorized by 50 CFR part 648 and is exempt from review under Executive Order 12866.

Pursuant to 5 U.S.C. 553(b)(B) and (d)(3), there is good cause to waive prior notice and opportunity for public comment, as well as the delayed effectiveness for this action, because notice, comment, and a delayed effectiveness would be impracticable and contrary to the public interest. The regulations under § 648.85(a)(3)(iv) grant the Regional Administrator the authority to modify gear requirements to prevent over-harvesting or under-harvesting the TAC allocation. Because of the time necessary to provide for prior notice and opportunity for public comment, NMFS would be prevented from taking immediate action to remove gear restrictions in the U.S./Canada Management Area. Such a delay would allow the current slow catch rates of GB yellowtail flounder and Eastern GB cod to continue and could result in under-harvest of the GB yellowtail flounder and Eastern GB cod TACs. Thus, delayed implementation could undermine the conservation objectives of the FMP and the Magnuson-Stevens Act. Under-harvesting of the GB yellowtail TAC would result in increased negative economic impacts to the industry and social impacts beyond those analyzed for Amendment 13 as the full potential revenue from the fishery would not be realized.

The rate of harvest of the Eastern GB cod, Eastern GB haddock, and GB yellowtail flounder TACs in the U.S./Canada Management Area are updated weekly on the internet at http://www.nero.noaa.gov. Accordingly, the public is able to obtain information that would provide at least some advanced notice of a potential action to provide additional opportunities to the NE multispecies industry to fully harvest the TAC for any species during FY 2009. Further, the Regional Administrator's authority to modify gear requirements in the U.S./Canada Management Area to help ensure that the shared U.S./Canada stocks of fish are harvested, but not exceeded, was considered and open to public comment during the development of Amendment 13 and Framework Adjustment 42. Therefore, any negative effect the waiving of public comment and delayed effectiveness may have on the public is mitigated by these factors.

Authority: 16 U.S.C. 1801 et seq.

Dated: March 11, 2010.
Emily H. Menashes,
Acting Director, Office of Sustainable Fisheries, National Marine Fisheries Service.

[FR Doc. 2010-5720 Filed 3-11-10; 4:15 pm]

BILLING CODE 3510-22-S